DEPARTMENT OF ENERGY

Federal Energy Regulatory Commission

[Docket No. ER00-1-000]

TransEnergie U.S., Ltd.; Notice of Issuance of Order

June 5, 2000.

On October 1, 1999, TransEnergie U.S., Ltd. (TransEnergie) filed with the Commission a petition for an order accepting a tariff offering non-discriminatory transmission service over a 26-mile undersea high-voltage, bi-directional, direct current cable it proposes to build underneath the Long Island Sound. TransEnergie also requested certain waivers and authorizations. In particular, TransEnergie requested that the Commission grant blanket approval under 18 CFR Part 34 of all future issuances of securities and assumptions of liabilities by the TransEnergie. On June 1, 2000, the Commission issued an Order Approving Proposal Subject To Conditions (Order), in the above-docketed proceedings.

The Commission's June 1, 2000 Order granted TransEnergie's request for blanket approval under Part 34, subject to the conditions found in Ordering Paragraphs (C), (D), and (E):

(C) Within 30 days of the date of this order, any person desiring to be heard or to protest the Commission's blanket approval of issuances of securities or assumptions of liabilities by TransEnergie should file a motion to intervene or protest with the Federal Energy Regulatory Commission, 888 First Street, N.E., Washington, D.C. 20426, in accordance with Rules 211 and 214 of the Commission's Rules of Practice and Procedure, 18 CFR 385.211 and 385.214.

(D) Absent a request to be heard within the period set forth in Ordering Paragraph (C) above, TransEnergie is hereby authorized to issue securities and assume obligations and liabilities as guarantor, indorser, surety or otherwise in respect of any security of another person; provided that such issue or assumption is for some lawful object within the corporate purposes of TransEnergie, compatible with the public interest, and reasonably necessary or appropriate for such purposes.

(E) The Commission reserves the right to modify this order to require a further showing that neither public nor private interests will be adversely affected by continued Commission approval of TransEnergie's issuances of securities or assumptions of liabilities * * *.

Notice is hereby given that the deadline for filing motions to intervene or protests, as set forth above, is July 3, 2000.

Copies of the full text of the Order are available from the Commission's Public Reference Branch, 888 First Street, N.E., Washington, D.C. 20426. This issuance may also be viewed on the Internet at http://www.ferc.fed.us/online/rims.htm (call 202-208-2222 for assistance).

David P. Boergers,
Secretary.

[FR Doc. 00-14632 Filed 6-8-00; 8:45 am]

BILLING CODE 6717-01-M